DEPARTMENT OF COMMERCE

National Oceanic and Atmospheric Administration

[I.D. 030306D]

Endangered and Threatened Species; Recovery Plans

AGENCY: National Marine Fisheries Service (NMFS), National Oceanic and Atmospheric Administration, Commerce.

ACTION: Notice of Availability; request for comments.

SUMMARY: The National Marine Fisheries Service (NMFS) announces the availability for public review of the following two documents: the Draft Snake River Salmon Recovery Plan for Southeast Washington developed by the Snake River Salmon Recovery Board (SRSRB) for portions of three evolutionarily significant units (ESUs) of salmon Snake River spring/summer-run Chinook salmon, Snake River fall-run Chinook salmon (Oncorhynchus tshawytscha), and Snake River sockeye salmon (O. nerka) and two distinct population segments (DPS) of steelhead Middle Columbia River steelhead and Snake River steelhead (O. mykiss) (Draft SRSRB Plan); and a Supplement to the Draft SRSRB Plan prepared by NMFS (the Supplement). NMFS is soliciting review and comment on the Draft SRSRB Plan and the Supplement from the public and all interested parties.

DATES: NMFS will consider and address all substantive comments received during the comment period. Comments must be received no later than 5 p.m. Pacific Daylight Time on May 15, 2006. A description of previous public and scientific review, including scientific peer review, can be found in the NMFS Supplement to the Plan.

ADDRESSES: Please send written comments and materials to Carol Joyce, National Marine Fisheries Service, Salmon Recovery Division, 1201 N.E. Lloyd Boulevard, Suite 1100, Portland, OR 97232. Comments may be submitted by e-mail. The mailbox address for providing e-mail comments is WashingtonSnakePlan.nwr@noaa.gov. Include in the subject line of the e-mail comment the following identifier: Comments on WA Snake Salmon Plan. Comments may also be submitted via facsimile (fax) to 503-872-2737.

Persons wishing to review the Plan can obtain an electronic copy (i.e., CD-ROM) from Carol Joyce by calling 503-230-5408 or by e-mailing a request to carol.joyce@noaa.gov with the subject line CD-ROM Request for WA Snake Salmon Plan. Electronic copies of the Plan are also available on-line on the NMFS website www.nwr.noaa.gov/Salmon-Recovery-Planning/ESA-Recovery-Plans/Index.cfm or on the Snake River Salmon Recovery Board website: www.snakeriverboard.org/library.htm.

FOR FURTHER INFORMATION CONTACT: Lynn Hatcher, NMFS Salmon Recovery Coordinator (509-962-8911 ext. 223), or Elizabeth Gaar, NMFS Salmon Recovery Division (503-230-5434).

SUPPLEMENTARY INFORMATION: Recovery plans describe actions considered necessary for the conservation and recovery of species listed under the Endangered Species Act of 1973 (ESA), as amended (16 U.S.C. 1531 et seq.). An “evolutionarily significant unit” (ESU) of Pacific salmon (Waples, 1991) and a “distinct population segment” (DPS) of steelhead (71 FR 834, January 5, 2006) are considered to be “species,” as defined in section 3 of the ESA. The ESA requires that recovery plans incorporate (1) Objective, measurable criteria that, when met, would result in a determination that the species is no longer threatened or endangered; (2) site-specific management actions necessary to achieve the plan's goals; and (3) estimates of the time required and costs to implement recovery actions. The ESA requires the development of recovery plans for listed species unless such a plan would not promote the recovery of a particular species.

NMFS' goal is to restore endangered and threatened Pacific salmon and steelhead ESA-listed species to the point that they are again secure, self-sustaining members of their ecosystems and no longer need the protections of the ESA. NMFS believes it is critically important to base its recovery plans on the many state, regional, tribal, local, and private conservation efforts already underway throughout the region. Therefore, the agency supports and participates in locally led collaborative efforts to develop recovery plans involving local communities, state, tribal, and Federal entities, and other stakeholders.

On October 26, 2005, the SRSRB presented its locally developed recovery plan to NMFS. The SRSRB was formed in 2002 under Washington State statute to oversee and coordinate salmon and steelhead recovery efforts in the Lower Snake River region of Washington. It comprises representatives from county governments, the Confederated Tribes of the Umatilla Indian Reservation, irrigation districts, private landowners, and concerned citizens. The SRSRB's mission is to protect and restore salmon habitat, consistent with the recovery plan, for current and future generations.

The Draft SRSRB Plan addresses portions of five ESA-listed species under NMFS' jurisdiction within the Southeast Washington Management Unit (a geographic unit that NMFS has defined for recovery planning purposes). NMFS intends to endorse the SRSRB Plan and Supplement as an interim regional recovery plan and combine it with other plans to make up a final domain recovery plan to meet ESA section 4(f) requirements for these species.

By endorsing a locally developed interim regional recovery plan, NMFS is making a commitment to implement the actions in the plan for which we have authority, to work cooperatively on implementation of other actions, and to encourage other Federal agencies to implement plan actions for which they have responsibility and authority. We will also encourage the State of Washington to seek similar implementation commitments from state agencies and local governments. NMFS expects that the interim regional recovery recovery plan will be used to help NMFS and other Federal agencies take a more consistent approach to future ESA section 7 consultations. For example, an interim regional recovery plan will provide greater biological context for the effects that a proposed action may have on the listed species. This context will be enhanced by adding recovery plan science to the “best available information” for section 7 consultations. Such information includes viability criteria for the ESUs and their independent populations, better understanding of and information on limiting factors and threats facing the ESUs, better information on priority areas for addressing specific limiting factors, and better geographic context for where the ESUs can tolerate varying levels of risk.

After review of the Draft SRSRB Plan, NMFS added a Supplement, which describes how the Draft SRSRB Plan contributes to ESA recovery plan requirements, including qualifications and additional actions that NMFS believes are necessary to support recovery. The Supplement and the SRSRB's plan together form a proposed interim regional recovery plan for the affected species. The Draft SRSRB Plan and the Supplement are now available for public review and comment. As noted above, the Draft SRSRB Plan is available at the Snake River Salmon Recovery Board website: www.snakeriverboard.org/library.htm and both the Draft SRSRB Plan and the Supplement are available at the NMFS Northwest Region Salmon Recovery Division website, www.nwr.noaa.gov/Salmon-Recovery-Planning/index.cfm. NMFS will consider all substantive comments and information presented during the public comment period (see DATES).

ESUs Addressed and Planning Area

The SRSRB Plan encompasses the Lower Snake Mainstem, Walla Walla, Tucannon, and Asotin subbasins in the State of Washington, in which four of the 28 populations of the Snake River spring/summer-run Chinook ESU are found. The SRSRB Plan also includes the Washington portions of the Walla Walla and Grande Ronde subbasins, within which four of the 25 populations of the Snake River steelhead DPS, and 2 of the 17 populations of the Middle Columbia steelhead DPS are found. Sockeye salmon migrate through the recovery region, but spawn and rear higher in the Snake Basin. The fall-run Chinook salmon population is described but not evaluated in the recovery plan.

The Snake River steelhead ESU was listed as threatened on August 18, 1997 (62 FR 43937). The Middle Columbia River steelhead ESU was listed as threatened on March 25, 1999 (64 FR 14517). Recently, NMFS revised its species determinations for West Coast steelhead under the ESA, delineating steelhead-only DPSs. NMFS listed both the Snake River and Middle Columbia River steelhead DPSs as threatened on January 5, 2006 (71 FR 834). The Snake River spring/summer-run Chinook and fall-run Chinook salmon ESUs were listed as threatened (57 FR 14658, April 22, 1992; correction 57 FR 23458, June 3, 1992). The Snake River sockeye salmon ESU was listed as endangered on November 20, 1991 (56 FR 58619). NMFS reaffirmed the threatened status of the Snake River spring/summer-run and fall-run Chinook salmon ESUs, and the endangered status of the Snake River sockeye salmon ESU, on June 28, 2005 (70 FR 37160).

None of the listed species is entirely contained within the Washington Snake River recovery region. Because most state and local boundaries are not drawn on the basis of watersheds or ecosystems, the various groups and organizations formed for recovery planning do not necessarily correspond to ESU or DPS areas. Therefore, in order to develop species-wide recovery plans that are built from local recovery efforts, NMFS defined “management units” that roughly follow jurisdictional boundaries but, taken together, encompass the geography of entire species. For the Middle Columbia sub-domain, there are four management units: (1) Oregon; (2) Yakima; (3) Columbia Gorge (Klickitat/Rock Creek/White Salmon); and (4) Southeast Washington (Walla Walla and Touchet). For the Snake River sub-domain there are three management units: (1) Idaho; (2) Oregon; and (3) Southeast Washington. The Draft SRSRB Plan is the plan for the Southeast Washington Management Unit of both sub-domains.

In 2006, the separate management unit plans will be “rolled up” or consolidated into ESU/DPS-level recovery plans. The final ESU/DPS-level recovery plans will incorporate the management unit plans and endorse the recommendations and decisions (for example, decisions on site-specific habitat actions) that are most appropriately left to the local recovery planners and implementers. The ESU/DPS-level plans will also more completely address actions for the hatchery, harvest, and hydro sectors.

The Draft SRSRB Plan

The Draft SRSRB Plan reflects the region's strong commitment to its threatened salmonid populations. Citizens of the area consider recovery of salmonids to be highly desirable. Salmon and steelhead are harvested in commercial (outside the region) and recreational (inside and outside the region) fisheries as well as taken for tribal ceremonial purposes. Native Americans place great value on salmonids as a religious, nutritional, economic, and cultural resource. The salmon is also an enduring symbol of the Pacific Northwest for non-Native peoples.

The Draft SRSRB Plan's overarching goal is the following: Develop and maintain a healthy ecosystem that contributes to the rebuilding of key fish populations by providing abundant, productive, and diverse populations of aquatic species that support the social, cultural, and economic well-being of the communities both within and outside the recovery region.

The Draft SRSRB Plan examines limiting factors and threats for Snake River salmon recovery in terms of habitat, hydropower, harvest, and hatcheries.

1. Habitat: The watersheds in the recovery region have similar salmonid habitat limitations because of similarities in topography, geology, vegetation, and land use. The Draft SRSRB Plan states that agriculture (including grazing), logging, and urbanization have resulted in increased sediment, higher water temperatures, and poorer riparian condition, and have caused major changes in channel form and function, resulting in lack of habitat diversity, increased channel instability, and low flows.

2. Hydropower: There are four major dams on the lower Snake River: Lower Granite, Little Goose, Lower Monumental, and Ice Harbor. Thus, depending on the locations of their native streams, adult and juvenile migrants must pass some or all of these dams as they migrate through the lower Snake River, as well as the four dams on the lower Columbia River.

The Draft SRSRB Plan states that both adult passage upstream and juvenile passage downstream through the hydroelectric system have major effects on the fish. These effects can include predation on juveniles by other species in tailraces and reservoirs, dissolved gas bubble disease, entrapment and entrainment on/in mechanical portions of the dam (such as turbines), altered water temperatures, adult fallback, and alteration of normal migration rates.

3. Harvest: In-region fisheries include recreational fisheries for salmon and steelhead authorized by Washington, Oregon, and Idaho, and treaty Indian ceremonial and subsistence fisheries. Since 2001, the Washington Department of Fish and Wildlife has authorized limited selective fisheries for spring/summer Chinook salmon in late April, May and June. According to the Draft SRSRB Plan, catches of wild fish and impacts on them are relatively low. Mainstem Columbia River fisheries downstream from the Southeast Washington Management Unit are managed under in-season harvest regulations pursuant to the U.S. v. Oregon management plan.

4. Hatcheries: The Draft SRSRB Plan does not propose any new hatchery programs, but recognizes that hatcheries can play a role in recovering fish populations. Hatchery programs directly affecting Snake River populations include programs funded under the Lower Snake River Compensation Program, those funded by Idaho Power Company, and other programs. In 2002, 33 hatcheries and satellite facilities from throughout the basin released over 29 million juvenile salmon and steelhead into the Snake River. The Draft SRSRB Plan states that there is concern about hatchery fish straying into virtually all stream reaches in the recovery area. NMFS and other agencies are reviewing and assessing hatchery programs in the Columbia Basin in several different processes. These efforts are expected to provide information relevant to the SRSRB Plan in 2006.

The Draft SRSRB Plan also discusses additional factors that affect Snake River salmon and steelhead: habitat alterations in the Columbia River and estuary, conditions in the Pacific Ocean, and dam operations on the Clearwater and Upper Snake mainstem.

Recovery will depend on the concerted efforts of actions addressing habitat, harvest, hydroelectric operations, and hatcheries working together and adjusting over time as population conditions change. The Draft SRSRB Plan discusses “all-H integration,” which is further defined in the Supplement.

The Draft SRSRB Plan incorporates the NMFS viable salmonid population (VSP) framework as a basis for biological status assessments and recovery goals. The Draft SRSRB Plan also incorporates the 2004 recommendations of the Interior Columbia Technical Recovery Team (ICTRT) appointed by NMFS, which provided recommendations on biological criteria for population and ESU viability. The ICTRT developed “viability curves” showing the relationships between productivity and abundance that would indicate higher or lower risk of extinction for a given population.

The SRSRB adopted strategic guidelines for recovery actions that emphasize projects with long persistence time and benefits distributed over the widest possible range of environmental attributes; immediate measures in addition to long-term actions; adaptive management; information contained in the applicable subbasin plans; consideration of recovery actions within the context of the four “Hs” (habitat, harvest, hatcheries, and hydroelectric); use of the Ecological Diagnosis and Treatment (EDT) analysis tool, in combination with other analyses, empirical data and professional opinion, to identify and prioritize habitat actions; and consideration of the economic, social, and cultural constraints identified by the recovery region.

The Draft SRSRB Plan primarily focuses on actions to protect and restore habitat, and to remove “imminent threats” to salmon survival, such as fish passage barriers and toxic effluents. The Draft SRSRB Plan's habitat actions are targeted for the major spawning areas (MSAs) identified by the ICTRT. The actions are designed to increase productivity, abundance, spatial structure, and diversity by addressing the limiting factors and threats. The actions are designed to improve upland habitat, riparian conditions, floodplain functions, instream habitat, water quantity, and water quality.

The Draft SRSRB Plan does not propose actions for the hydropower system or for harvest, because these are managed in other venues, and these actions will be addressed in the ESU-level plans. The plan does propose a hatchery strategy based on the Hatchery and Genetic Management Plans (HGMPs) for the region, which are administered by NMFS. The strategy attempts to balance risks to recovery of listed fish populations with the achievement of harvest objectives.

The SRSRB emphasizes adaptive management as a fundamental aspect of salmon recovery and envisions an extensive adaptive management program being developed in the implementation phase of the watershed planning process funded by the State of Washington. This adaptive management program will be incorporated into the final SRSRB Plan.

The Draft SRSRB Plan details a 15-year implementation strategy at a projected cost of $6.9 million per year. However, NMFS emphasizes in the Supplement that recovery planning and implementation cannot stop at 15 years, but must continue until the species is recovered. The SRSRB further proposes a specific, 18-month implementation plan containing actions that have been developed by multiple agencies and groups within the recovery region and that can be implemented quickly. The Draft SRSRB Plan states that, because salmon recovery efforts have been underway in the region since the early 1990s, much of the internal framework (policy, scientific, public support, and funding) needed to implement these actions is either in place or can be established quickly once the plan is adopted. Actions proposed in this 18-month plan vary from working to eliminate imminent threats to restoring riparian areas. The section also discusses policy, legislation and scientific “unknowns” that need to be resolved to fully implement the plan. The Draft SRSRB Plan includes a detailed cost estimate for site-specific actions in each MSA.

The ICTRT provided technical guidance to the SRSRB for use in the Draft SRSRB Plan. This technical guidance was itself reviewed by multiple technical experts from Federal, state, and local agencies and the Umatilla Tribe. The Draft SRSRB Plan bases much of its information on the subbasin plans for the Lower Snake Mainstem, Walla Walla, Tucannon, Asotin, and Grand Ronde subbasins, and these plans were peer-reviewed by the Independent Scientific Review Panel, appointed by the Northwest Power and Conservation Council (NPCC), and by the Independent Scientific Advisory Board, appointed by the NPCC and NMFS.

Public Comments Solicited

NMFS solicits written comments on the Draft SRSRB Plan and the NMFS Supplement. The Supplement states NMFS' assessment of the Draft SRSRB Plan's relationship to ESA requirements for recovery plans. The Supplement also explains the agency's intent to use the SRSRB Plan together with the Supplement as an interim regional recovery plan to guide and prioritize recovery actions and to roll up the interim regional recovery plan with other local plans into Federal ESA recovery plans for the respective domains. All substantive comments received by the date specified above will be considered prior to NMFS' decision whether to endorse the SRSRB Plan as an interim regional recovery plan and incorporate it into the species-level plans. Additionally, NMFS will provide a summary of the comments and responses through its regional web site and provide a news release for the public announcing the availability of the response to comments. NMFS seeks comments particularly in the following areas: (1) The analysis of limiting factors and threats; (2) the recovery strategies and measures; (3) the criteria for removing the ESUs and DPS from the Federal list of endangered and threatened wildlife and plants; and (4) meeting the ESA requirement for estimates of time and cost to implement recovery actions by soliciting implementation schedules.

Authority

The authority for this action is section 4(f) of the Endangered Species Act (16 U.S.C. 1531 et seq.).

Dated: March 8, 2006.
James H. Lecky,
Director, Office of Protected Resources, National Marine Fisheries Service.

[FR Doc. E6-3633 Filed 3-13-06; 8:45 am]

BILLING CODE 3510-22-S